DEPARTMENT OF DEFENSE

Office of the Secretary

Renewal of Department of Defense Federal Advisory Committee; Missile Defense Advisory Committee

AGENCY: Department of Defense (DoD).

ACTION: Renewal of Federal Advisory Committee.

SUMMARY: Under the provisions of the Federal Advisory Committee Act of 1972, (5 U.S.C. Appendix), the Government in the Sunshine Act of 1976 (5 U.S.C. 552b), and 41 CFR 102-3.50, the Department of Defense gives notice that it is renewing the charter for the Missile Defense Advisory Committee (hereafter referred to as the Committee).

FOR FURTHER INFORMATION CONTACT: Jim Freeman, Deputy Committee Management Officer for the Department of Defense, 703-601-6128.

SUPPLEMENTARY INFORMATION: The Committee is a discretionary Federal advisory committee established to provide the Secretary of Defense, through the Under Secretary of Defense for Acquisition, Technology & Logistics and the Director, Missile Defense Agency, independent advice and recommendations on all matters relating to missile defense, including system development, technology, program maturity and readiness of configurations for the Ballistic Missile Defense System.

The Under Secretary of Defense for Acquisition, Technology and Logistics or designee may act upon the Committee's advice and recommendations.

The Committee shall be composed of not more than fifteen Committee members, who are eminent authorities in the field of national defense policy, acquisition and technical areas relating to Ballistic Missile Defense System Programs.

Committee members appointed by the Secretary of Defense, who are not full-time or permanent part-time Federal officers or employees, shall serve as special government employees under the authority of 5 U.S.C. 3109. With the exception of travel and per diem for official travel, Committee members shall normally serve without compensation, unless the Secretary of Defense authorizes compensation for a particular member(s).

Committee members shall be appointed by the Secretary of Defense to serve an initial two-year term not to exceed four years on the Committee. Committee members shall be renewed on an annual basis by the Secretary of Defense. The Under Secretary of Defense for Acquisition, Technology & Logistics or designee, in keeping with Department of Defense procedures for appointments, may extend a members term on the Committee. Member appointments will be staggered among the Committee membership to ensure an orderly turnover in the Committee's overall composition on a periodic basis.

The Secretary of Defense, based upon the recommendation of the Under Secretary of Defense for Acquisition, Technology & Logistics, shall appoint the Committee's Chairperson. The Under Secretary of Defense for Acquisition, Technology & Logistics shall appoint the Vice Chairperson, based on the recommendation of the Director, Missile Defense Agency. The Committee Chairperson and Vice Chairperson shall serve two-year terms and, with the concurrence of the appointing authority, may be reappointed in these positions for additional terms.

With DOD approval, the Committee is authorized to establish subcommittees, as necessary and consistent with its mission. These subcommittees or working groups shall operate under the provisions of the Federal Advisory Committee Act of 1972, the Government in the Sunshine Act of 1976 (5 U.S.C. 552b), and other appropriate Federal statutes and regulations.

Such subcommittees or workgroups shall not work independently of the chartered Committee, and shall report all their recommendations and advice to the Committee for full deliberation and discussion. Subcommittees or workgroups have no authority to make decisions on behalf of the chartered Committee nor, can they report directly to the Department of Defense or any Federal officers or employees who are not Committee members.

Subcommittee members, who are not Committee members, shall be appointed in the same manner as the Committee members.

The Committee shall meet at the call of the Committee's Designated Federal Officer, in consultation with the Chairperson. The estimated number of Committee meetings is four per year.

The Designated Federal Officer, pursuant to DoD policy, shall be a full-time or permanent part-time DoD employee, and shall be appointed in accordance with established DoD policies and procedures. In addition, the Designated Federal Officer is required to be in attendance at all Committee and subcommittee meetings, however, in the absence of the Designated Federal Officer, the Alternate Designated Federal Officer shall attend the meeting.

Pursuant to 41 CFR 102-3.105(j) and 102-3.140, the public or interested organizations may submit written statements to the Missile Defense Advisory Committee membership about the Committee's mission and functions. Written statements may be submitted at any time or in response to the stated agenda of planned meeting of the Missile Defense Advisory Committee.

All written statements shall be submitted to the Designated Federal Officer for the Missile Defense Advisory Committee, and this individual will ensure that the written statements are provided to the membership for their consideration. Contact information for the Missile Defense Advisory Committee Designated Federal Officer can be obtained from the GSA's FACA Database— https://www.fido.gov/facadatabase/public.asp.

The Designated Federal Officer, pursuant to 41 CFR 102-3.150, will announce planned meetings of the Missile Defense Advisory Committee. The Designated Federal Officer, at that time, may provide additional guidance on the submission of written statements that are in response to the stated agenda for the planned meeting in question.

Dated: August 24, 2010.
Mitchell S. Bryman,
Alternate OSD Federal Register Liaison Officer, Department of Defense.

[FR Doc. 2010-21377 Filed 8-26-10; 8:45 am]

BILLING CODE 5001-06-P